DEPARTMENT OF AGRICULTURE

Rural Housing Service

Rural Business-Cooperative Service

Rural Utilities Service

Farm Service Agency

Notice of Request for Extension of a Currently Approved Information Collection

AGENCIES: Rural Housing Service, Rural Business-Cooperative Service, Rural Utilities Service, Farm Service Agency, USDA.

ACTION: Proposed collection; comments requested.

SUMMARY: In accordance with the Paperwork Reduction Act of 1995, this notice announces the subject agencies' intention to request an extension for a currently approved information collection in support of the programs for 7 CFR part 1956, subpart B, “Debt Settlement—Farmer Loan Programs and Multi-Family Housing.”

DATES: Comments on this notice must be received by April 26, 2004 to be assured of consideration.

FOR FURTHER INFORMATION CONTACT: Janet Stouder, Deputy Director, Multi-Family Housing Portfolio Management, USDA, RHS, 1400 Independence Ave. SW., Washington, DC 20250-0782, telephone (202) 720-9728. Electronic mail: janet.stouder@usda.gov.

SUPPLEMENTARY INFORMATION: Title: Debt Settlement—Farm Loan Programs and Multi-Family Housing.

OMB Number: 0575-0118.

Expiration Date of Approval: July 31, 2004.

Type of Request: Extension of a currently approved information collection.

Abstract: This regulation defines items to be submitted by borrowers to request settlement of their debt. Information regarding past and present income, living expenses, debt repayment, assets and liabilities is obtained. The information is used to determine if acceptance of the settlement offer is in the best interest of the Government and document the borrower's request and offer.

Estimate of Burden: Public reporting for this collection of information is estimated to average 8.5 hours per response.

Respondents: Individuals or households, businesses or other for profit and farms.

Estimated Number of Respondents: 2,400.

Estimated Number of Responses per Respondent: 1.

Estimated Number of Responses: 2,400.

Estimated Total Annual Burden on Respondents: 20,400.

Copies of this information collection can be obtained from Renita Bolden, Regulations and Paperwork Management Branch, Support Services Division at (202) 692-0035.

Comments

Comments are invited on: (a) Whether the proposed collection of information is necessary for the proper performance of the functions of the subject agencies, including whether the information will have practical utility; (b) the accuracy of the Agencies' estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Renita Bolden, Regulations and Paperwork Management Branch, Support Services Division, U.S. Department of Agriculture, Rural Development, STOP 0742, 1400 Independence Ave. SW., Washington, DC 20250. All responses to this notice will be summarized and included in the request for OMB approval. All comments will also become a matter of public record.

Dated: February 12, 2004.
Arthur A. Garcia,
Administrator, Rural Housing Service.
Dated: February 12, 2004.
Peter J. Thomas,
Acting Administrator, Rural Business-Cooperative Service.
Dated: February 11, 2004.
James R. Little,
Administrator, Farm Services Agency.
Dated: February 12, 2004.
Curtis M. Anderson,
Acting Administrator, Rural Utilities Service.

[FR Doc. 04-3877 Filed 2-23-04; 8:45 am]

BILLING CODE 3410-XV-P